DEPARTMENT OF EDUCATION

[Docket No.: ED-2016-ICCD-0074]

Agency Information Collection Activities; Submission to the Office of Management and Budget for Review and approval; Comment Request; Preschool Development Grants—Preschool Pay for Success Feasibility Pilot

AGENCY: Office of Elementary and Secondary Education (OESE), Department of Education (ED).

ACTION: Notice.

SUMMARY: In accordance with the Paperwork Reduction Act of 1995 (44 U.S.C. chapter 3501 et seq.), ED is proposing a new information collection.

DATES: Interested persons are invited to submit comments on or before July 25, 2016.

ADDRESSES: To access and review all the documents related to the information collection listed in this notice, please use http://www.regulations.gov by searching the Docket ID number ED-2016-ICCD-0074. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-343, Washington, DC 20202-4537.

FOR FURTHER INFORMATION CONTACT: For specific questions related to collection activities, please contact Miriam Lund, 202-401-2871.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Preschool Development Grants—Preschool Pay for Success Feasibility Pilot.

OMB Control Number: 1810-NEW.

Type of Review: A new information collection.

Respondents/Affected Public: State, Local, and Tribal Governments.

Total Estimated Number of Annual Responses: 14.

Total Estimated Number of Annual Burden Hours: 2,800.

Abstract: Pay For Success (PFS) is an innovative contracting and financing model that tests and advances promising and proven interventions, while providing taxpayer (or other) dollars for successful outcomes for families, individuals, and communities. Through a PFS project, government (or another entity) enters into a contract with an investor to pay for services provided to specific people or communities once concrete, measurable outcomes have been achieved. Payments are made only if interventions achieve the outcomes agreed upon in advance. Where PFS financing is used, the government (or other entity) typically makes Outcomes Payments that cover the cost of services and also offer Investors a modest return, which typically amounts to a fraction of the short and long-term cost savings to the government (or other entity) from the successful outcomes.

The first step in exploring implementing preschool services through PFS is a Feasibility Study. A Feasibility Study establishes whether PFS is viable, for a specific intervention, in a specific jurisdiction and geographic area. It identifies potential Outcome Measures for the project and evaluates the feasibility of implementing or scaling a specific intervention for an identified Target Population. The study analyzes and quantifies the fiscal benefits for government and societal benefits that result if the Outcome Measures are achieved for the target population. It may also identify statutory and legal barriers, as well as potential partners for PFS. This information collection is an application package for a competition that seeks to award grants for Feasibility Studies to measure the viability of preschool pay for success projects.

Dated: June 20, 2016.
Tomakie Washington,
Acting Director, Information Collection Clearance Division, Office of the Chief Privacy Officer, Office of Management.

[FR Doc. 2016-14904 Filed 6-23-16; 8:45 am]

BILLING CODE 4000-01-P